ENVIRONMENTAL PROTECTION AGENCY

[EPA 2016-09; FRL 9955-93-Region 9]

Proposed Agreement and Order on Consent for Certain CERCLA Response Activities by Tenant as Bona Fide Prospective Purchaser

AGENCY: Environmental Protection Agency (EPA).

ACTION: Notice; request for public comment.

SUMMARY: In accordance with section 122(i) of the Comprehensive Environmental Response, Compensation and Liability Act of 1980, as amended (CERCLA), 42 U.S.C. 9622(i), notice is hereby given of a proposed settlement, embodied in an Agreement and Order on Consent (Agreement), between the United States on behalf of the Environmental Protection Agency (EPA) and Planetary Ventures, LLC (PV), a Delaware Limited liability company. PV represents that, as a lessee from the National Aeronautics and Space Administration (NASA) of the Moffett Field Leasehold within the former NAS Moffett Field Superfund site in Santa Clara County, California, it is a bona fide prospective purchaser, as described by CERCLA section 101(40), 42 U.S.C. 9601(40) and through the Agreement would maintain that status. Under the Agreement, PV agrees to perform a pilot study for evaluating alternatives for abating contaminants in the coating and paint in the superstructure of Hangar One, and, if selected by NASA, to conduct a non-time critical removal action at Hangar One. The Agreement also requires PV to pay EPA oversight costs for this work, and includes a covenant not to sue PV pursuant to sections 106 or 107(a) of CERCLA, 42 U.S.C. 9606 or 9607(a).

DATES: Written comments must be received on or before January 5, 2017. For thirty (30) days following the date of publication of this notice, EPA will consider all comments received on this agreement and may modify or withdraw its consent to the agreement if comments received disclose facts or considerations that indicate that the settlement is inappropriate, improper, or inadequate.

ADDRESSES: EPA's response to any comments and the proposed agreement are available for public inspection at the EPA Region IX, Regional Records Center, 75 Hawthorne Street, San Francisco, CA 94105, 415-947-8717. A copy of the proposed agreement may be obtained from Judy Huang, EPA Region IX, 75 Hawthorne Street, SFD-8-3, San Francisco, CA, 94105, telephone number 415-972-3914. Comments should reference Docket ID Number EPA 2016-09 and should be addressed to Ms. Huang at the above address or electronically to huang.judy@epa.gov.

FOR FURTHER INFORMATION CONTACT: Bethany Dreyfus, Assistant Regional Counsel (ORC-3), Office of Regional Counsel, U.S. EPA Region IX, 75 Hawthorne Street, San Francisco, CA 94105; Email: dreyfus.bethany@epa.gov; Phone (415) 972-3886.

Dated: November 21, 2016.
Enrique Manzanilla,
Director, Superfund Division, EPA Region 9.

[FR Doc. 2016-29240 Filed 12-5-16; 8:45 am]

BILLING CODE 6560-50-P